ENVIRONMENTAL PROTECTION AGENCY

[OPP-00648; FRL-6498-2]

List of Pests of Significant Public Health Importance; Notice of Availability

AGENCY: Environmental Protection Agency (EPA).

ACTION: Notice of availability.

SUMMARY: This notice announces the availability of a draft Pesticide Registration (PR) Notice that identifies pests of significant public health importance for the purpose of regulation under the Federal Insecticide, Fungicide, and Rodenticide Act (FIFRA). EPA, in coordination with the Department of Health and Human Services and the Department of Agriculture has identified pests of significant public health importance. The development of the list is required by FIFRA, but has no effect on the regulatory status of pesticide products used against the listed pests.

DATES: Written comments, identified by the docket control number OPP-00648, must be received on or before May 30, 2000.

ADDRESSES: Comments may be submitted by regular mail, electronically, or in person. Please follow the detailed instructions for each method as provided in Unit I. under SUPPLEMENTARY INFORMATION.

FOR FURTHER INFORMATION CONTACT: Kevin Sweeney, Registration Division (7505C), Office of Pesticide Programs, Environmental Protection Agency, Ariel Rios Building, 1200 Pennsylvania Avenue, NW., Washington, DC 20460; telephone: (703) 305-5063, fax: (703) 305-6596, e-mail: sweeney.kevin@epa.gov.

SUPPLEMENTARY INFORMATION:

I. Important Information

A. Does this Apply to Me?

This action is directed to the public in general, but may be of particular interest to manufacturers of pesticides intended for use against public health pests, and those responsible for public health programs involved in the control or regulation of public health pests. Since other entities may also be interested, the Agency has not attempted to describe all the specific entities that may be affected by the notice being made available today. If you have any questions regarding the applicability of the notice to a particular entity, consult the person listed in the FOR FURTHER INFORMATION CONTACT section.

B. How Can I Get Additional Information or Copies of Support Documents?

1. Electronically. You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/.

2. Fax on Demand. You may request to receive a faxed copy of the draft PR Notice titled “List of Pests of Significant Public Health Importance” by using a faxphone to call (202) 401-0527 and selecting item 6125. You may also follow the automated menu.

3. In person. The official record for this notice, as well as the public version, has been established under docket control number OPP-00648, (including comments and data submitted electronically as described below). A public version of this record, including printed, paper versions of any electronic comments, which does not include any information claimed as CBI, is available for inspection in Rm. 119, Crystal Mall #2, 1921 Jefferson Davis Highway, Arlington, VA, from 8:30 a.m. to 4 p.m., Monday through Friday, excluding legal holidays.

C. How and to Whom Do I Submit Comments?

You may submit comments through the mail, in person, or electronically:

1. By mail. Submit written comments to: “Public Information and Records Integrity Branch, Information Resources and Services Division (7502C), Office of Pesticide Programs, Environmental Protection Agency, Ariel Rios Building, 1200 Pennsylvania Ave., NW., Washington, DC 20460.

2. In person. Deliver written comments to: Public Information and Records Integrity Branch, Rm. 119, CM #2, 1921 Jefferson Davis Highway, Arlington, VA.

3. Electronically. Submit your comments and/or data electronically to opp-docket@epa.gov. Please note that you should not submit any information electronically that you consider to be Confidential Business Information (CBI). Electronic comments must be submitted as an ASCII file avoiding the use of special characters and any form of encryption. Comment and data will also be accepted on disks in WordPerfect 6.1/8.0 or ASCII file format. All comments and data in electronic form must be identified by the docket control number OPP-00648. Electronic comments on this notice may also be filed online at many Federal Depository Libraries.

D. How Should I Handle Information that I Believe is Confidential?

You may claim information that you submit in response to this document as confidential by marking any part or all of that information as CBI. Information so marked will not be disclosed except in accordance with procedures set forth in 40 CFR part 2. A copy of the comment that does not contain CBI must be submitted for inclusion in the public record. Information not marked confidential will be included in the public docket by EPA without prior notice.

II. Background

FIFRA section 28(d) charges EPA with identifying “pests of significant public health importance.” This process is aided considerably by FIFRA definitions of two key terms. First, FIFRA section 2 expressly defines the term “pest” as meaning:

(1) any insect, rodent, nematode, fungus, weed, or (2) any other form of terrestrial or aquatic plant or animal life or virus, bacteria, or other micro-organism (except viruses, bacteria, or other micro-organism on or in living man or other living animals) which the Administrator declares to be a pest under section 25(c)(1).

EPA in its regulations in 40 CFR 152.5 has broadly defined the term pest to cover each of the organisms mentioned except with respect to the organisms specifically excluded by the definition.

Second, although FIFRA does not define a “public health pest,” it does define a “public health pesticide” and this definition supplies important information for interpreting the term “public health pest.” Among other things, a “public health pesticide” must be used for “vector control or for other recognized health protection uses, including the mitigation of viruses, bacteria, or other microorganisms (other than viruses, bacteria, or other microorganisms on or in living man or other living animal) that pose a threat to public health.” FIFRA section 2(oo) defines the term “vector” used in the above definition as “any organism capable of transmitting the causative agent of human disease or capable of producing human discomfort or injury, including mosquitoes, flies, fleas, cockroaches, or other insects and ticks, mites, or rats.”

Moreover EPA's task of identifying pests of “significant” public health importance requires EPA to identify those FIFRA pests that are significant vectors or other significant pests affecting public health. The statute does not define what aspects of a vector render it of significant public health importance. Nonetheless, the definition of a “public health pesticide” identifies an important criterion for establishing the significance of a vector. Not only must a public health pesticide be a pesticide used for vector control, it must be a pesticide “used predominantly in public health programs.” EPA believes that significant vectors can be identified by determining which vectors have been deemed sufficiently important that federal, state, or local public entities have devoted substantial resources to their eradication. Using this criterion, EPA has identified the pests in Appendix A of the draft PR Notice.

III. Use of the List of Pests of Significant Public Health Importance by the Agency

The Agency will use the list of pests of significant public health importance to:

1. Identify pesticide products with public health uses that are used predominantly in recognized public health programs. These may include pesticides to control, attract or repel these pests.

2. Identify critical public health minor uses.

3. Together with the Public Health Service, develop and implement programs to improve and facilitate the safe and necessary use of chemical, biological and other methods to control pests of significant public health importance.

IV. Specific Topics for Comment

Please comment on all aspects of the draft PR Notice. The Agency is particularly looking for comments to the following questions:

1. Should EPA also publish a list of public health pests which may become significant? This would be equivalent to identifying the universe of public health pests.

2. Is cockroach control in publicly funded housing a public health program per se, or is it merely a component of a building maintenance program?

3. Should the use of public funds for the purpose of controlling public health pests by pesticide application be the criterion for identifying a public health program?

4. For a pesticide product to qualify as predominantly used in a public health program, should more than half of the use of the pesticide product, taking into account all registered uses for the pesticide product, be used in a public health program?

V. Contents of Docket

The document referenced in this notice will be placed in the public docket under the docket control number “OPP-00648.”

List of Subjects

Environmental protection, Public health pests, Public health pesticides.

Dated: March 22, 2000.
Marcia E. Mulkey,
Director, Office of Pesticide Programs.

[FR Doc. 00-7631 Filed 3-28-00; 8:45 am]

BILLING CODE 6560-50-F